DEPARTMENT OF THE INTERIOR

Fish and Wildlife Service

[FWS-R9-IA-2009-N142; 96300-1671-0000-P5]

Issuance of Permits

AGENCY: Fish and Wildlife Service, Interior.

ACTION: Notice of issuance of permits.

SUMMARY: We, the U.S. Fish and Wildlife Service (Service), have issued the following permits to conduct certain activities with endangered species and/or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Table: Endangered Species
Permit number | Applicant | Receipt of application Federal Register notice | Permit issuance date
011646 | Kootenai Tribe of Idaho | 74 FR 21816; May 11, 2009 | July 30, 2009
062075, 064075, 068236, 068237, 068238, 068349, 088955, 088956, 088957, 088958, 088959, 088960, 119894, 120319, 213635, 213636, and 213637 | Hawthorn Corporation | 74 FR 21817; May 11, 2009 | June 30, 2009
128999 and 211013 | George Carden Circus Intl., Inc. | 74 FR 23201; May 18, 2009 | June 30, 2009
196694 | Omaha's Henry Doorly Zoo | 74 FR 21817; May 11, 2009 | July 1, 2009
197528 | Minnesota Zoological Garden | 74 FR 21817; May 11, 2009 | July 1, 2009
206206 | Fred H. Gage, Salk Institute for Biological Studies | 74 FR 21817; May 11, 2009 | June 30, 2009
207590 | Dr. Richard A. Miller, University of Michigan | 74 FR 20339; May 1, 2009 | July 17, 2009
210720 | Oregon Zoo | 74 FR 23201; May 18, 2009 | July 17,2009
212201 | Dr. Paul D. Bieniasz | 74 FR 25767; May 29, 2009 | July 7, 2009
213427 | Brian H. Welker | 74 FR 28523; June 16, 2009 | July 20, 2009

Table: Marine Mammals
Permit number | Applicant | Receipt of application Federal Register notice | Permit issuance date
212570 | National Marine Mammal Laboratory | 74 FR 21817; May 11, 2009 | July 22, 2009
690038 | U.S. Geological Survey, Alaska Science Center | 74 FR 17210; April 14, 2009 | July 30, 2009
801652 | U.S. Geological Survey, Alaska Science Center | 74 FR 20339; May 1, 2009 | July 31, 2009

Dated: July 31, 2009
Lisa J. Lierheimer
Senior Permit Biologist, Branch of Permits, Division of Management Authority

[FR Doc. E9-19229 Filed 8-10-09; 8:45 am]

BILLING CODE 4310-55-S